DEPARTMENT OF DEFENSE

Defense Acquisition Regulations System

48 CFR Part 252

RIN 0750-AF24

Defense Federal Acquisition Regulation Supplement; Reports of Government Property (DFARS Case 2005-D015)

AGENCY: Defense Acquisition Regulations System, Department of Defense (DoD).

ACTION: Proposed rule; extension of comment period.

SUMMARY: DoD is extending the comment period for the proposed amendments to the Defense Federal Acquisition Regulation Supplement (DFARS) that were published in the Federal Register of Tuesday, March 21, 2006 (71 FR 14151). The proposed amendments addressed requirements for reporting of Government property in the possession of contractors.

DATES: The ending date for submission of comments is extended to May 22, 2006.

FOR FURTHER INFORMATION CONTACT: Ms. Robin Schulze, Defense Acquisition Regulations System, OUSD (AT&L) DPAP (DARS), IMD 3C132, 3062 Defense Pentagon, Washington, DC 20301-3062. Telephone (703) 602-0326; facsimile (703) 602-0350. Please cite DFARS Case 2005-D015.

SUPPLEMENTARY INFORMATION: The proposed DFARS amendments would replace existing DD Form 1662 property reporting requirements with requirements for contractors to electronically submit data to the Item Unique Identification Registry. The comment period is extended to provide additional time for interested parties to review the proposed changes.

Michele P. Peterson,
Editor, Defense Acquisition Regulations System.

[FR Doc. E6-5857 Filed 4-18-06; 8:45 am]

BILLING CODE 5001-08-P